DEPARTMENT OF HOMELAND SECURITY

Federal Emergency Management Agency

[Docket ID FEMA-2016-0002; Internal Agency Docket No. FEMA-B-1662]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: December 21, 2016.
Roy E. Wright,
Deputy Associate Administrator for Insurance and Mitigation, Department of Homeland Security, Federal Emergency Management Agency.

State and county | Location and case No. | Chief executive officer of community | Community map repository | Online location of letter of map revision | Effective date of modification | Community No.
Arizona:
Maricopa | City of Peoria (16-09-0861P) | The Honorable Cathy Carlat, Mayor, City of Peoria, 8401 West Monroe Street, Peoria, AZ 85345 | Engineering Department, 9875 North 85th Avenue, Peoria, AZ 85345 | http://www.msc.fema.gov/lomc | Feb. 17, 2017 | 040050
Maricopa | City of Peoria (16-09-0867P) | The Honorable Cathy Carlat, Mayor, City of Peoria, 8401 West Monroe Street, Peoria, AZ 85345 | Engineering Department, 9875 North 85th Avenue, Peoria, AZ 85345 | http://www.msc.fema.gov/lomc | Feb. 17, 2017 | 040050
Maricopa | City of Phoenix (15-09-2235P) | The Honorable Greg Stanton, Mayor, City of Phoenix, 200 West Washington Street, Phoenix, AZ 85003 | Street Transportation Department, 200 West Washington Street, 5th Floor, Phoenix, AZ 85003 | http://www.msc.fema.gov/lomc | Feb. 10, 2017 | 040051
Maricopa | Town of Gilbert (16-09-1926P) | The Honorable John Lewis, Mayor, Town of Gilbert, 50 East Civic Center Drive, Gilbert, AZ 85296 | Town Hall, 90 East Civic Center Drive, Gilbert, AZ 85296 | http://www.msc.fema.gov/lomc | Feb. 17, 2017 | 040044
Maricopa | Unincorporated Areas of Maricopa County (15-09-2235P) | The Honorable Clint L. Hickman, Chairman, Board of Supervisors, Maricopa County, 301 West Jefferson Street, 10th Floor, Phoenix, AZ 85003 | Flood Control District of Maricopa County, 2801 West Durango Street, Phoenix, AZ 85009 | http://www.msc.fema.gov/lomc | Feb. 10, 2017 | 040037
Maricopa | Unincorporated Areas of Maricopa County (16-09-1926P) | The Honorable Clint L. Hickman, Chairman, Board of Supervisors, Maricopa County, 301 West Jefferson Street, 10th Floor, Phoenix, AZ 85003 | Flood Control District of Maricopa County, 2801 West Durango Street, Phoenix, AZ 85009 | http://www.msc.fema.gov/lomc | Feb. 17, 2017 | 040037
Pima | Unincorporated Areas of Pima, County (16-09-1661P) | The Honorable Sharon Bronson, Chair, Board of Supervisors, Pima County, 130 West Congress Street, 11th Floor, Tucson, AZ 85701 | Pima County Regional Flood Control District, 201 North Stone Avenue 9th Floor, Tucson, AZ 85701 | http://www.msc.fema.gov/lomc | Feb. 3, 2017 | 040073
Yavapai | Town of Chino Valley (16-09-0142P) | The Honorable Chris Marley, Mayor, Town of Chino Valley, Town Hall, 202 North State Route 89, Chino Valley, AZ 86323 | Public Works Department, 1982 Voss Drive, Chino Valley, AZ 86323 | http://www.msc.fema.gov/lomc | Jan. 27, 2017 | 040094
California:
Santa Clara | City of San Jose (16-09-1141P) | The Honorable Sam Liccardo, Mayor, City of San Jose, 200 East Santa Clara Street, 18th Floor, San Jose, CA 95113 | Department of Public Works, 200 East Santa Clara Street, 3rd Floor, San Jose, CA 95113 | http://www.msc.fema.gov/lomc | Jan. 19, 2017 | 060349
Yolo | Unincorporated Areas of Yolo County (16-09-2472P) | The Honorable Jim Provenza, Chairman, Board of Supervisors, Yolo County, 625 Court Street, Room 204, Woodland, CA 95695 | Department of Planning and Public Works, 292 West Beamer Street, Woodland, CA 95695 | http://www.msc.fema.gov/lomc | Feb. 13, 2017 | 060423
Illinois:
Adams | Unincorporated Areas of Adams County (16-05-1107P) | The Honorable Les Post, Chairman, Adams County Board, County Courthouse, 101 North 54th Street, Quincy, IL 62305 | Adams County Courthouse, 101 North 54th Street, Quincy, IL 62305 | http://www.msc.fema.gov/lomc | Jan. 3, 2017 | 170001
Cass | Unincorporated Areas of Cass County (15-05-2462P) | The Honorable Dave Parish, Chairman, Cass County Board, 100 East Springfield Street, Virginia, IL 62691 | County Courthouse, 100 East Springfield Street, Virginia, IL 62691 | http://www.msc.fema.gov/lomc | Jan. 27, 2017 | 170810
Cass | Village of Ashland (15-05-2462P) | The Honorable Terry S. Blakeman, Village President, Village of Ashland, 101 North Yates Street, Ashland, IL 62612 | Village Hall, 101 North Yates Street, Ashland, IL 62612 | http://www.msc.fema.gov/lomc | Jan 27, 2017 | 171025
Cook | City of Countryside (15-05-6492P) | The Honorable Sean R. McDermott, Mayor, City of Countryside, 5550 East Avenue, Countryside, IL 60525 | Building Department, 5550 East Avenue, Countryside, IL 60525 | http://www.msc.fema.gov/lomc | Dec. 30, 2016 | 170079
Cook | Unincorporated Areas of Cook County (15-05-6492P) | The Honorable Toni Preckwinkle, President, Cook County Board, 118 North Clark Street, Room 537, Chicago, IL 60602 | Cook County, Building and Zoning, Department, 69 West Washington, Street, 21st Floor, Chicago, IL 60602 | http://www.msc.fema.gov/lomc | Dec. 30, 2016 | 170054
Cook | Village of La Grange (15-05-6492P) | The Honorable Thomas E. Livingston, Village President, Village, of La Grange, 53 South La Grange Road, La Grange, IL 60525 | Village Hall, 53 South La Grange Road, La Grange, IL 60525 | http://www.msc.fema.gov/lomc | Dec. 30, 2016 | 170114
Kane | Village of Campton Hills (16-05-6021P) | The Honorable Harry Blecker, Village President, Village of Campton Hills, 40W270 LaFox Road, Suite B, Campton Hills, IL 60175 | Village Hall, 40W270 LaFox Road, Suite B, Campton Hills, IL 60175 | http://www.msc.fema.gov/lomc | Feb. 10, 2017 | 171396
Kansas: Johnson | City of Overland Park (16-07-1180P) | The Honorable Carl Gerlach, Mayor, City of Overland Park, 8500 Santa Fe Drive, Overland Park, KS, 66212 | City Hall, 8500 Santa Fe Drive, Overland Park, KS 66212 | http://www.msc.fema.gov/lomc | Jan. 4, 2017 | 200174
Kentucky: Jefferson | Louisville-Jefferson County Metro Government (16-04-6581P) | The Honorable Greg Fischer, Mayor, Louisville Jefferson County Metro, Metro Hall, 527 West Jefferson Street, 4th Floor, Louisville, KY 40202 | Louisville-Jefferson County Metropolitan Sewer District, 700 West Liberty Street, Louisville, KY 40203 | http://www.msc.fema.gov/lomc | Jan. 9, 2017 | 210120
Missouri:
Greene | City of Springfield (16-07-1495P) | The Honorable Bob Stephens, Mayor, City of Springfield, Springfield City Hall, 840 Boonville Avenue, Springfield, MO 65802 | City Hall, 840 Boonville Avenue, Springfield, MO 65802 | http://www.msc.fema.gov/lomc | Feb. 15, 2017 | 290149
Greene | Unincorporated Areas of Greene County (16-07-1495P) | Mr. Robert Cirtin, Greene County Presiding Commissioner, Greene County Commission Offices, 933 North Robberson Avenue, Springfield, MO 65802 | Greene County Courthouse, 840 Boonville Avenue, Springfield, MO 65802 | http://www.msc.fema.gov/lomc | Feb. 15, 2017 | 290782
Nevada: Clark | Unincorporated Areas of Clark County (16-09-1844P) | The Honorable Steve Sisolak, Chairman, Board of Supervisors, 500 South Grand Central Parkway, 6th Floor, Las Vegas, NV 89106 | Office of The Director of Public Works, 500 South Grand Central Parkway, Las Vegas, NV 89155 | http://www.msc.fema.gov/lomc | Jan. 5, 2017 | 320003
New York:
Suffolk | Town of Southold (16-02-1018P) | The Honorable Scott A. Russell, Town Supervisor, Town of Southold, 53095 Main Road, Southold, NY 11971 | Town Hall, 53095 Route 25, Southold, NY 11971 | http://www.msc.fema.gov/lomc | Feb. 17, 2017 | 360813
Ulster | Town of Saugerties (16-02-1922P) | The Honorable Gregory Helsmoortel, Town Supervisor, Town of Saugerties, 4 High Street, Saugerties, NY 12477 | Town of Saugerties, Town Hall, 4 High Street, Saugerties, NY 12477 | http://www.msc.fema.gov/lomc | April 5, 2017 | 360863
Oregon:
Benton | City of Corvallis (16-10-0653P) | The Honorable Biff Traber, Mayor, City of Corvallis, 501 Southwest Madison Avenue, Corvallis, OR 97339 | Planning Department, 501 Southwest Madison Avenue, Corvallis, OR 97333 | http://www.msc.fema.gov/lomc | Jan. 17, 2017 | 410009
Jackson | Unincorporated Areas of Jackson County (16-10-0825P) | The Honorable Rick Dyer, Commissioner, Jackson County, 10 South Oakdale Avenue, Room 214, Medford, OR 97501 | Jackson County Roads, Parks and Planning Services, 10 South Oakdale Avenue, Medford, OR 97501 | http://www.msc.fema.gov/lomc | Dec. 27, 2016 | 415589
Texas:
Dallas | City of Mesquite (16-06-2265P) | The Honorable Stan Pickett, Mayor, City of Mesquite, 757 North Galloway Avenue, Mesquite, TX 75185 | City Engineering Services, 1515 North Galloway Avenue, Mesquite, TX 75185 | http://www.msc.fema.gov/lomc | Jan. 5, 2017 | 485490
Travis | City of Manor (16-06-1785P) | The Honorable Rita G. Jonse, Mayor, City of Manor, 105 East Eggleston Street, Manor, TX 78653 | City Hall, 201 East Parson Street, Manor, TX 78653 | http://www.msc.fema.gov/lomc | Jan. 9, 2017 | 481027
Travis | Unincorporated Areas of Travis County (16-06-1785P) | The Honorable Sarah Eckhardt, Travis County Judge, 700 Lavaca, Suite 2.300, Austin, TX 78767 | Transportation and Natural Resources, 700 Lavaca Street, 5th Floor, Austin, TX 78767 | http://www.msc.fema.gov/lomc | Jan. 9, 2017 | 481026
Washington DC | District of Columbia (16-03-2068P) | The Honorable Muriel Bowser, Mayor, District of Columbia, John A. Wilson Building, 1350 Pennsylvania Avenue Northwest, Suite 316, Washington, DC 20004 | Department of Environment, 51 North Street, Northeast, Suite 5020 Washington, DC 20002 | http://www.msc.fema.gov/lomc | Feb. 9, 2017 | 110001
Washington:
King | City of Auburn (16-10-1206P) | The Honorable Nancy Backus, Mayor, City of Auburn, 25 West Main Street, Auburn, WA 98001 | City Hall, 25 West Main Street, Auburn, WA 98001 | http://www.msc.fema.gov/lomc | Mar. 8, 2017 | 530073
King | City of Pacific (16-10-1206P) | The Honorable Leanne Guier, Mayor, City of Pacific, 100 3rd Avenue Southeast, Pacific, WA 98047 | City Hall, 100 3rd Avenue Southeast, Pacific, WA 98047 | http://www.msc.fema.gov/lomc | Mar. 8, 2017 | 530086
Wisconsin:
Dane | City of Monona (16-05-3951P) | The Honorable Bob Miller, Mayor, City of Monona, 5211 Schluter Road, Monona, WI 53716 | City Hall, 5211 Schluter Road, Monona, WI 53716 | http://www.msc.fema.gov/lomc | Dec. 30, 2016 | 550088
Eau Claire | City of Eau Claire (16-05-5442P) | The Honorable Kerry Kincaid, President, City Council, 4441 South Lowes Creek Road, Eau Claire, WI 54701 | City Hall, 203 South Farwell Street, 3rd Floor, Eau Claire, WI 54701 | http://www.msc.fema.gov/lomc | Feb. 14, 2017 | 550128
Jackson | Unincorporated Areas of Jackson County (16-05-4012P) | The Honorable Ray Ransom, Chairperson, Jackson County Board, Jackson County Courthouse, 307 Main Street, Black River Falls, WI 54615 | Jackson County Courthouse, 307 Main Street, Black River Falls, WI 54615 | http://www.msc.fema.gov/lomc | Feb. 9, 2017 | 550583

[FR Doc. 2017-01262 Filed 1-18-17; 8:45 am]

BILLING CODE 9110-12-P